FEDERAL ELECTION COMMISSION

Sunshine Act Meeting

TIME AND DATE: Thursday, April 12, 2018 at 10:00 a.m.

PLACE: 1050 First Street NE, Washington, DC (12th Floor).

STATUS: This meeting, open to the public, has been cancelled.

CONTACT PERSON FOR MORE INFORMATION: Judith Ingram, Press Officer, Telephone: (202) 694-1220.

Signed:

Dayna C. Brown,
Secretary and Clerk of the Commission.

[FR Doc. 2018-07494 Filed 4-6-18; 4:15 pm]

BILLING CODE 6715-01-P